DEPARTMENT OF THE INTERIOR

Landmarks Committee of the National Park System Advisory Board Meeting

AGENCY: National Park Service, U.S. Department of the Interior.

ACTION: Notice of meeting.

SUMMARY: Notice is hereby given in accordance with the Federal Advisory Committee Act [5 U.S.C. Appendix (1988)], that a meeting of the Landmarks Committee of the National Park System Advisory Board will be held beginning at 1 p.m. on October 28, 2008 at the following location. The meeting will continue beginning at 9 a.m. on October 29.

DATES: October 28-29, 2008.

Location: The 2nd Floor Board Room of the National Trust for Historic Preservation, 1785 Massachusetts Avenue, NW., Washington, DC 20036.

FOR FURTHER INFORMATION CONTACT: Patricia Henry, National Historic Landmarks Program, National Park Service, 1849 C Street, NW. (2280), Washington, DC 20240; Telephone (202) 354-2216; e-mail Patty_Henry@nps.gov.

SUPPLEMENTARY INFORMATION: The purpose of the meeting of the Landmarks Committee of the National Park System Advisory Board is to evaluate nominations of historic properties in order to advise the National Park System Advisory Board of the qualifications of each property being proposed for National Historic Landmark (NHL) designation, and to make recommendations regarding the possible designation of those properties as National Historic Landmarks to the National Park System Advisory Board at its subsequent meeting at a place and time to be determined. The Committee also makes recommendations to the National Park System Advisory Board regarding amendments to existing designations and proposals for withdrawal of designation.

The members of the Landmarks Committee are:

Dr. Larry E. Rivers, Chair,

Dr. James M. Allan,

Dr. Cary Carson,

Ms. Mary Werner DeNadai, FAIA,

Dr. Alferdteen Brown Harrison,

Mr. E. L. Roy Hunt, J.D.,

Mr. Ronald James,

Dr. William J. Murtagh,

Dr. William D. Seale,

Dr. Jo Anne Van Tilburg.

The meeting will be open to the public. Pursuant to 36 CFR part 65, any member of the public may file, for consideration by the National Park System Advisory Board, written comments concerning the National Historic Landmarks nominations, amendments to existing designations, or proposals for withdrawal of designation. Comments should be submitted to J. Paul Loether, Chief, National Register of Historic Places and National Historic Landmarks Program, National Park Service, 1849 C Street, NW. (2280), Washington, DC 20240; E-mail Paul_Loether@nps.gov.

Before including your address, phone number, e-mail address, or other personal identifying information in your comment, you should be aware that your entire comment—including your personal identifying information—may be made publicly available at any time. While you can ask us in your comment to withhold your personal identifying information from public review, we cannot guarantee that we will be able to do so.

The National Park System Advisory Board and Its Landmarks Committee may consider the following nominations:

Nominations

Arizona

• Sage Memorial Hospital School of Nursing, Ganado Mission, Ganado, AZ

California

• Steedman Estate/Casa del Herrero, Santa Barbara County, CA

Colorado

• Ludlow Tent Colony Site, Las Animas County, CO

Connecticut

• Richard Alsop IV House, Middletown, CT

Florida

• The Miami Circle at Brickell Point Site, Miami, FL

Illinois

• New Philadelphia Town Site, Pike County, IL

Minnesota

• Christ Church Lutheran, Minneapolis, MN

Pennsylvania

• Alfred Newton Richards Medical Research Laboratories and David Goddard Laboratories Buildings, Philadelphia, PA

Wisconsin

• Aldo Leopold Shack and Farm, Fairfield & Lewiston Townships, WI

Proposals for Withdrawal of Designation

• Florence Mills House, New York City, NY

Dated: August 19, 2008.
J. Paul Loether,
Chief, National Historic Landmarks Program, National Park Service, Washington, DC.

[FR Doc. E8-22732 Filed 9-26-08; 8:45 am]

BILLING CODE 4312-51-P